ENVIRONMENTAL PROTECTION AGENCY

[FRL-7776-9]

Science Advisory Board Staff Office, Clean Air Scientific Advisory Committee (CASAC); Notification of Advisory Committee Meeting of the CASAC Ambient Air Monitoring and Methods (AAMM) Subcommittee

AGENCY: Environmental Protection Agency (EPA).

ACTION: Notice.

SUMMARY: The Environmental Protection Agency Science Advisory Board (SAB) Staff Office announces a public meeting of the Clean Air Scientific Advisory Committee's (CASAC) Ambient Air Monitoring and Methods (AAMM) Subcommittee to conduct a consultation on methods for measuring coarse-fraction particulate matter (PMc) in ambient air, based upon performance evaluation field studies conducted by EPA.

DATES: July 22, 2004. The meeting will be held on July 22, 2004, from 8:30 a.m. to 5:30 p.m. (eastern time).

ADDRESSES: The meeting will take place at the EPA campus, Building C, in EPA's Main Auditorium (Room C111), 109 Alexander Drive, Research Triangle Park (RTP), North Carolina. A publicly-accessible teleconference line will be available for the entire meeting.

FOR FURTHER INFORMATION CONTACT: Any member of the public who wishes to obtain the teleconference call-in numbers and access codes; would like to submit written or brief oral comments (five minutes or less); or wants further information concerning this meeting, must contact Mr. Fred Butterfield, Designated Federal Officer (DFO), EPA Science Advisory Board (1400F), U.S. Environmental Protection Agency, 1200 Pennsylvania Avenue, NW., Washington, DC 20460; via telephone/voice mail: (202) 343-9994; fax: (202) 233-0643; or e-mail at: butterfield.fred@epa.gov. General information concerning the CASAC or the Science Advisory Board can be found on the EPA Web site at: http://www.epa.gov/sab.

SUPPLEMENTARY INFORMATION:

CASAC and the AAMM Subcommittee

The CASAC, which comprises seven members appointed by the EPA Administrator, was established under section 109(d)(2) of the Clean Air Act (42 U.S.C. 7409) as an independent scientific advisory committee, in part to provide advice, information and recommendations on the scientific and technical aspects of issues related to air quality criteria and national ambient air quality standards (NAAQS) under sections 108 and 109 of the Act. The CASAC is a Federal advisory committee chartered under the Federal Advisory Committee Act (FACA), as amended, 5 U.S.C., App.

The SAB Staff Office is forming the CASAC AAMM Subcommittee as a standing subcommittee to provide EPA, through the CASAC, with advice and recommendations, as necessary, on topical areas related to ambient air monitoring, methods and networks. A solicitation for nominees to form the new AAMM Subcommittee of the CASAC was published in the Federal Register on April 12, 2004 (69 FR 19180), and noted that nominees should be national and international experts in one or more of the following areas: (a) Atmospheric sciences and air quality simulation modeling; (b) human health effects and exposure assessment; (c) air quality measurement science; (d) ecological risk assessment; and (e) State, local agency or Tribal experience. The CASAC AAMM Subcommittee will report to the EPA Administrator through the CASAC, which is administratively located under the SAB Staff Office. The Subcommittee will comply with the provisions of FACA and all appropriate SAB Staff Office procedural policies.

Background

EPA's Office of Air Quality Planning and Standards (OAQPS), within EPA's Office of Air and Radiation, is seeking advice from the CASAC on methods for measuring coarse-fraction particulate matter in ambient air, should new PMc standards be established as a result of EPA's ongoing review of the NAAQS for particulate matter (PM). Measurement of PMc is intended to focus on those particles in the ambient air with a nominal diameter in the range of 2.5 to 10 micrometers (i.e., the coarse fraction of PM10). The CASAC has provided peer review on PMc measurement methods on two previous occasions. The CASAC's former Technical Subcommittee on Particle Monitoring (which was previously known as the Technical Subcommittee on Fine Particle Monitoring) met on April 18-19, 2000, to provide advice and commentary on EPA's PM2.5 Monitoring program. A portion of that public meeting included a presentation and discussion on developing a Federal Reference Method (FRM) sampler for PMc. The report from that meeting may be viewed at: http://www.epa.gov/sab/pdf/casca006.pdf. Subsequently, the CASAC met via public teleconference on October 1, 2001, to conduct a consultation with EPA on the Agency's proposed methodology for measuring PMc. As is the case with CASAC consultations, no formal report from that teleconference was prepared; however, a record of that teleconference may be viewed at: http://www.epa.gov/sab/pdf/casacn02001.pdf.

Any questions concerning the Agency's needs for PMc measurement methods should be directed to Mr. Tim Hanley, OAQPS, at phone: (919) 541-4417; or e-mail: hanley.tim@epa.gov. Questions concerning FRM or federal equivalent method (FEM) development efforts and the PMc measurement methods evaluation study should be directed to Dr. Robert Vanderpool of EPA's National Exposure Research Laboratory, within the Office of Research and Development, at phone: (919) 541-7877; or e-mail: vanderpool.robert@epa.gov.

Charge to the CASAC AAMM Subcommittee

For this consultative meeting, Subcommittee members will be charged with providing individual expert advice on EPA's evaluation of PMc sampling and monitoring methods that will help inform the Agency's possible selection of PMc measurement methods as part of its ongoing review of the PM NAAQS. This consultation will include an assessment of the relative strengths and weaknesses of each of the methods tested, with consideration of the Agency's need for methods that can meet multiple monitoring objectives.

Availability of Additional Meeting Materials

At least one month prior to the meeting of this Subcommittee, OAQPS will post written meeting materials on the Ambient Monitoring Technology Information Center (AMTIC) Web site at: http://www.epa.gov/ttn/amtic/casac.html. In addition, the SAB Staff Office will post a copy of the agenda and the final charge to the Subcommittee for this consultation on the SAB Web site at: http://www.epa.gov/sab (under the “Agendas” subheading) in advance of the Subcommittee meeting.

Providing Oral or Written Comments at SAB Meetings

It is the policy of the SAB Staff Office to accept written public comments of any length, and to accommodate oral public comments whenever possible. The SAB Staff Office expects that public statements presented at its meetings will not be repetitive of previously-submitted oral or written statements. Oral Comments: In general, each individual or group requesting an oral presentation at a face-to-face meeting will be limited to a total time of five minutes (unless otherwise indicated). Requests to provide oral comments must be in writing (e-mail, fax or mail) and received by Mr. Butterfield no later than noon eastern time five business days prior to the meeting in order to reserve time on the meeting agenda. Speakers should bring at least 75 copies of their comments and presentation slides for distribution to the reviewers and public at the meeting. Written Comments: Although the SAB Staff Office accepts written comments until the date of the meeting (unless otherwise stated), written comments should be received in the SAB Staff Office no later than noon eastern time five business days prior to the meeting so that the comments may be made available to the CASAC AAMM Subcommittee for their consideration. Comments should be supplied to Mr. Butterfield (preferably via e-mail) at the address/contact information noted above, as follows: one hard copy with original signature, and one electronic copy via e-mail (acceptable file format: Adobe Acrobat PDF, WordPerfect, Word, or Rich Text files (in IBM-PC/Windows 98/2000/XP format)). Those providing written comments and who attend the meeting are also asked to bring 75 copies of their comments for public distribution.

Meeting Access

Individuals requiring special accommodation at this meeting, including wheelchair access to the conference room, should contact the DFO at the phone number or e-mail address noted above at least at least five business days prior to the meeting so that appropriate arrangements can be made.

Dated: June 16, 2004.
Vanessa T. Vu,
Director, EPA Science Advisory Board Staff Office.

[FR Doc. 04-14092 Filed 6-21-04; 8:45 am]

BILLING CODE 6560-50-P